DEPARTMENT OF ENERGY

Federal Energy Regulatory Commission

[Docket No. EL07-63-000]

Strategic Transmission, LLC, Complainant v. PJM Interconnection, LLC, Respondent; Notice of Complaint Requesting Fast Track Processing

May 22, 2007.

Take notice that on May 21, 2007, Strategic Transmission, LLC (Strategic), pursuant to sections 206 and 306 of the Federal Power Act, 16 U.S.C. §§ 824(e) and 825 (e), and sections 206 and 212 of the Commission's Rules of Practice and Procedures, 18 CFR §§ 385.206 and 385.212, filed a complaint requesting fast track processing against PJM Interconnection, LLC (PJM) alleging that, in contravention of PJM's Open Access Transmission Tariff and the Federal Power Act, PJM has failed to identify on a timely basis the Incremental Capacity Transfer Rights for merchant transmission project S16 (advancement of the upgrade of the Gilbert-Glen Gardner 230 kv circuit).

Strategic certified that a copy of the complaint has been served on PJM.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 29, 2007.

Kimberly D. Bose,
Secretary.

[FR Doc. E7-10452 Filed 5-30-07; 8:45 am]

BILLING CODE 6717-01-P